DEPARTMENT OF TRANSPORTATION

Surface Transportation Board

[STB Finance Docket No. 33969]

Lancaster and Chester Railway Company—Lease and Operation Exemption—Norfolk Southern Railway Company

Lancaster and Chester Railway Company (L&C), a Class III rail carrier, has filed a notice of exemption under 49 CFR 1150.41 to lease, with an option to purchase, from Norfolk Southern Railway Company and operate approximately 30.8 miles of rail line in Kershaw and Lancaster Counties, SC. The line extends from approximately milepost SB-58.7, at the Kershaw station, to approximately milepost SB-89.5, at the Catawba station. The line connects to L&C's existing rail line at L&C Chester District Connection, at approximately milepost SB-76.4, near Lancaster.

Because the projected revenues of the rail lines to be operated will exceed $5 million, L&C certified to the Board, on December 1, 2000, that the required notice of its proposed transaction was sent to the national offices of all labor unions representing employees on the lines and was posted at the workplace of the employees on the affected lines. See 49 CFR 1150.42(e). The transaction is expected to be consummated during the first quarter of 2001, but in no event earlier than the February 1, 2001 effective date of the exemption.

If the notice contains false or misleading information, the exemption is void ab initio. Petitions to revoke the exemption under 49 U.S.C. 10502(d) may be filed at any time. The filing of a petition to revoke does not automatically stay the transaction.

An original and 10 copies of all pleadings, referring to STB Finance Docket No. 33969, must be filed with the Surface Transportation Board, Office of the Secretary, Case Control Unit, 1925 K Street, NW., Washington, DC 20423-0001. In addition, a copy of each pleading must be served on Rose-Michele Weinryb, Esq., Weiner Brodsky Sidman Kider, PC, 1300 19th Street, NW., Fifth Floor, Washington, DC 20036-1609.

Board decisions and notices are available on our website at www.stb.dot.gov.

Decided: January 30, 2001.
By the Board,
David M. Konschnik,
Director, Office of Proceedings.
Vernon A. Williams,
Secretary.

[FR Doc. 01-2961 Filed 2-6-01; 8:45 am]

BILLING CODE 4915-00-P